DEPARTMENT OF AGRICULTURE

Forest Service

Notice of New Fee Sites

AGENCY: Idaho Panhandle National Forests, USDA Forest Service.

ACTION: Notice of new fee sites.

SUMMARY: The Idaho Panhandle National Forests is proposing to charge new fees at one day-use boat launch for $5 per vehicle; one dump stations for $10 per use; eight campgrounds for $10 or $15 per night, and an additional $5 extra vehicle fee, starting at the third vehicle; nine boat-in campgrounds for $15 per night; one horse camp for $10 per night; one group campsite for $50 per night; and two cabin/lookout rentals at $45 or $55 per night. These new fees would align the sites with the other sites offering similar amenities and services.

These fees are only proposed and will be determined upon further analysis and public comment.

DATES: Send any comments about these fee proposals by August 27, 2018 so comments can be compiled, analyzed, and shared with the Bureau of Land Management (BLM) Coeur d'Alene Recreation Resource Advisory Committee. The proposed effective date of implementation of proposed new fees will be no earlier than six months after publication of this notice.

ADDRESSES: Jeanne Higgins, Forest Supervisor, Idaho Panhandle National Forests, 3815 Schreiber Way, Coeur d'Alene, ID 83815 or Email to jmhiggins@fs.fed.us.

FOR FURTHER INFORMATION CONTACT: Josh Jurgensen, Forest Recreation Program Manager Idaho Panhandle National Forests at 208-765-7214 or jjurgensen@fs.fed.us. Information about proposed fee changes can also be found on the Idaho Panhandle National Forests website at http://www.fs.usda.gov/ipnf.

SUPPLEMENTARY INFORMATION: The Federal Recreation Lands Enhancement Act (Title VII, P.L. 108-447) directed the Secretary of Agriculture to publish a six month advance notice in the Federal Register whenever new recreation fee areas are established.

Once public involvement is complete, these new fees will be reviewed by the BLM Coeur d'Alene Recreation Resource Advisory Committee prior to a final decision and implementation.

Specifically, the Idaho Panhandle National Forests is proposing the following new fees:

• Beaver Creek Cabin; proposed fee of $55 per night;

• Spyglass Ground House; proposed fee of $45 per night;

• Big Creek, Camp 3, Line Creek Stock Camp, Packsaddle, and Telichpah campgrounds; proposed fee of $10 per night, with an additional $5 extra vehicle fee per night for more than two vehicles;

• Conrad Crossing, Fly Flat, Mammoth Springs, and Spruce Tree campgrounds; proposed fee of $15 per night, with an additional $5 extra vehicle fee per night for more than two vehicles;

• Bottle Bay, Geisinger, Navigation, Plowboy, Teacher Bay, Trapper, and Tule Bay Boat-in campgrounds on Priest Lake; proposed fee of $15 per night;

• Green Bay and Whiskey Rock boat-in campgrounds on Pend Oreille Lake; proposed fee of $15 per night;

• Reynolds Creek Group camp site; proposed fee of $50 per night;

• Shadowy St. Joe Day Use Boating site; proposed fee of $5 per vehicle, per day;

• Priest Lake Information Site (RV Dump Station); proposed fee of $10 per use.

Additional construction is required at the Spyglass Ground House to complete the renovation project and it is anticipated that this site would be available for the public to rent in May of 2019. The Beaver Creek Cabin is currently unfurnished and would be available to rent in 2018 for $45 per night; however, once the cabin is furnished the fee would be raised to $55 per night.

Reasonable fees, paid by users of these sites and services, will help ensure that the Forest can continue maintaining and improving the sites for future generations. A market analysis of surrounding recreation sites with similar amenities indicates that the proposed fees are comparable and reasonable.

Advance reservations for the Beaver Creek Cabin, Lunch Peak Lookout, and Spyglass Ground House will be available through www.recreation.gov or by calling 1-877-444-6777. The reservation service charges a $10 fee for reservations.

Dated: January 10, 2018.
Chris French,
Associate Deputy Chief, National Forest System.

Editorial Note: This document was received for publication by the Office of the Federal Register on July 23, 2018.

[FR Doc. 2018-16032 Filed 7-26-18; 8:45 am]

BILLING CODE 3411-15-P